DEPARTMENT OF THE INTERIOR

Bureau of Land Management

Colorado: Filing of Plats of Survey

September 28, 2007.

Summary: The plats of survey of the following described land will be officially filed in the Colorado State Office, Bureau of Land Management, Lakewood, Colorado, effective 10 a.m., September 28, 2007. All inquiries should be sent to the Colorado State Office (CO-956), Bureau of Land Management, 2850 Youngfield Street, Lakewood, Colorado 80215-7093.

The plat which includes the field notes, and is the entire record of this remonumentation/rehabilitation of certain corners, in duplicate, in Township 13 South, Range 94 West, Sixth Principal Meridian, Colorado was accepted on June 19, 2007.

The plat which includes the field notes, and is the entire record of this resurvey, in duplicate, in Township 34 North, Range 7 West, New Mexico Principal Meridian, Colorado was accepted on July 20, 2007.

The plat, and field notes, in duplicate, of the dependent resurvey in Township 12 South, Range 68 West, Sixth Principal Meridian, Colorado were accepted on July 26, 2007.

The plat which includes the field notes, and is the entire record of this resurvey, in duplicate, of the dependent resurvey and corrective resurvey in Township 48 North, Range 10 East, New Mexico Principal Meridian, Colorado was accepted on July 31, 2007.

The supplemental plat, in duplicate, of section 7, in Township 3 South, Range 72 West, Sixth Principal Meridian, Colorado, was accepted on August 8, 2007.

The plat which includes the field notes, and is the entire record of this remonumentation of certain corners, in duplicate, in Township 16 South, Range 71 West, Sixth Principal Meridian, Colorado was accepted on September 5, 2007.

The plat, and field notes, in duplicate, of the location and remonumentation of certain original corners in, Township 6 North, Range 97 West, Sixth Principal Meridian, Colorado were accepted on September 25, 2007.

The supplemental plat, in duplicate, of section 11, in Township 3 South, Range 73 West, Sixth Principal Meridian, Colorado, was accepted on September 26, 2007.

Randall M. Zanon,
Chief Cadastral Surveyor for Colorado.

[FR Doc. E7-19708 Filed 10-4-07; 8:45 am]

BILLING CODE 4310-JB-P